NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 27, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Natural Resources Conservation Service (N1-114-08-2, 1 item, 1 temporary item). Master file associated with an electronic information system that provides information supporting the planning and application of conservation on working lands.

2. Department of Agriculture, Natural Resources Conservation Service (N1-114-08-3, 1 item, 1 temporary item). Master file associated with an electronic information system that provides assistance to land owners and managers in regard to conservation planning and technical consultation, conservation implementation, natural resources technology, and financial support.

3. Department of Commerce, National Oceanic and Atmospheric Administration (N1-370-08-1, 1 item, 1 temporary item). National Oceanic and Atmospheric Administration Diving Center Diver Training and Certification System database.

4. Department of Education, Agency-wide (N1-441-08-1, 4 items, 3 temporary items). The records are related to Department-sponsored national and international conferences and conventions and include plans, announcements, invitations, agenda, Web site, papers presented, summaries, evaluations, resolutions, and final reports. Proposed for permanent retention are records related to significant conferences and conventions that may involve public scrutiny.

5. Department of Education, Agency-wide (N1-441-08-3, 2 items, 1 temporary item). The records consist of reports to Congress and/or the President in accordance with mandates of Department-related legislation and include the working files of the reports presenting objectives, accomplishments, evaluation or study results, and summaries of education problems. Proposed for permanent retention are the final reports.

6. Department of Education, Agency-wide (N1-441-08-13, 2 items, 2 temporary items). General correspondence files, including routine incoming and outgoing correspondence and memoranda with enclosures relating to the day-to-day activities of the office.

7. Department of Education, Agency-wide (N1-441-08-14, 4 items, 3 temporary items). Calendars, appointment books, schedules, logs, diaries, handwritten notes and other records documenting substantive communications and appointments for non-senior officials. Proposed for permanent retention are recordkeeping copies of these records for senior officials.

8. Department of Education, Office of Hearings and Appeals (N1-441-08-15, 3 items, 3 temporary items). Administrative adjudication case files and attorney working files relating to such matters as administrative appeals for violations, fines, and misappropriations of Federal funds; final program review determinations; final audit determinations; grant paybacks; and termination of institutions' participation in Federal student aid programs. Records include correspondence, motions, briefs, orders, and decisions.

9. Department of Homeland Security, National Protection and Programs Directorate (N1-563-08-34, 1 item, 1 temporary item). Master file for the Automated Biometric Identification System, which collects biometric and biographic data used to establish an individual's identity during an immigration and border management encounter or other encounters with the agency. These data were approved for disposal in a previous schedule.

10. Department of Housing and Urban Development, Office of Multifamily Housing (N1-207-08-4, 4 items, 4 temporary items). Master files and outputs of an electronic information system which contains information about low income rental housing contracts.

11. Department of Justice, Agency-wide (N1-60-08-28, 4 items, 4 temporary items). Inputs and master file for data in the Civil Applicant System, an electronic fingerprint submission system used as part of new employee and contractor background investigations.

12. Department of Justice, Bureau of Alcohol, Tobacco, Firearms and Explosives (N1-436-08-10, 1 item, 1 temporary item). Master file of the Laboratory Information Management System, which tracks evidence submitted to the laboratory for examination.

13. Department of Justice, Federal Bureau of Investigation (N1-65-08-21, 5 items, 5 temporary items). Records of the Strategic Information and Operations Center, including its daily log and journal.

14. Department of Labor, Benefits Review Board (N1-174-08-1, 6 items, 4 temporary items). Records of the Benefits Review Board, including non-record copy of official case file material, reference files, and general and miscellaneous files. Also included are the Adjudicatory Board's monthly and quarterly production reports. Proposed for permanent retention are recordkeeping copies of decisions and orders and the Adjudicatory Board's annual report.

15. Department of State, Bureau of Overseas Buildings Operations (N1-59-08-14, 3 items, 3 temporary items). Records of the Office of Human Resources, including the master file of the Personnel Administration Security System, a personnel management system, and personnel files for contractors and transferred or separated employees.

16. Department of Transportation, Federal Railroad Administration (N1-399-08-6, 2 items, 2 temporary items). Master file and outputs of an electronic information system used to provide ready access to frequently used agency information in a public forum format.

17. Department of the Treasury, Departmental Offices (N1-56-08-3, 5 items, 5 temporary items). Master files of the Financial Analysis and Reporting System, which is a consolidated reporting tool for financial, performance, and management data.

18. Federal Communications Commission, Office of Public Safety and Homeland Security (N1-173-08-7, 5 items, 5 temporary items). Records relating to the Policy Division's enforcement of the Communications Assistance for Law Enforcement Act. Included are policy and procedure filings, permit filings, monitoring reports, as well as the master file of an electronic information system used to monitor compliance of telecommunications carriers with the act.

Dated: September 19, 2008.
Michael J. Kurtz,
Assistant Archivist for Records Services—Washington, DC.

[FR Doc. E8-22566 Filed 9-24-08; 8:45 am]

BILLING CODE 7515-01-P